DEPARTMENT OF AGRICULTURE

Submission for OMB Review; Comment Request

March 14, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Office of the Chief Financial Officer

Title: Supplier Credit Audit Recovery.

OMB Control Number: 0505-NEW.

Summary of Collection: The authority for this collection can be found in 115 Stat. 1186 Public Law 107-107- December 2001 Sec. 831. On March 10, 2010, the President signed a presidential memorandum directing all federal departments and agencies to expand and intensify their use of payment recapture audits. These audits offer specialized private auditors financial incentives to root out improper payments, and have been demonstrated through pilot programs to be highly effective. With new authorities made available in the Improper Payment Elimination and Recovery Act, it is anticipated that using the payment recapture audits will return at least $2 billion over the next three years to American taxpayers.

Need and Use of the Information: The Office of the Chief Financial Officer (OCFO) will send annual letters to all vendors in an attempt collect payments. The letter is asking the vendors to review their records to verify no funds are due back to USDA for goods or services provided by these vendors. If the information is not collected OCFO would not be able to identify the root cause of improper payments and would not be able to accomplishment this without verification of suspected overpayments to suppliers or vendors.

Description of Respondents: Business or other for-profit.

Number of Respondents: 300,000.

Frequency of Responses: Reporting: On occasion .

Total Burden Hours: 600,000.

Ruth Brown,
Departmental Information Collection Clearance Officer.

[FR Doc. 2013-06355 Filed 3-19-13; 8:45 am]

BILLING CODE 3410-KS-P